LIBRARY OF CONGRESS

Copyright Office

[Docket No. 2000-2 CARP CD 93-97]

Distribution of 1993, 1994, 1995, 1996 and 1997 Cable Royalty Funds

AGENCY: Copyright Office, Library of Congress.

ACTION: Announcement of the schedule for the proceeding.

SUMMARY: The Copyright Office of the Library of Congress is announcing the schedule for the 180-day arbitration period for the Phase II distribution of the 1997 cable royalty funds for the syndicated programming category.

EFFECTIVE DATE: November 1, 2000.

ADDRESSES: All hearings and meetings for the Phase II cable distribution proceeding shall take place in the James Madison Memorial Building, Room LM-414, First and Independence Avenue, SE., Washington, DC 20540.

FOR FURTHER INFORMATION CONTACT: David O. Carson, General Counsel, or William J. Roberts, Jr., Senior Attorney for Compulsory Licenses, P.O. Box 70977, Southwest Station, Washington, D.C. 20024. Telephone: (202) 707-8380. Telefax: (202) 252-3423.

SUPPLEMENTARY INFORMATION: Section 251.11(b) of the regulations governing the Copyright Arbitration Royalty Panels (“CARPs”), 37 CFR subchapter B, provides that:

At the beginning of each proceeding, the CARP shall develop the original schedule of the proceeding which shall be published in the Federal Register at least seven calendar days in advance of the first meeting. Such announcement shall state the times, dates, and place of the meetings, the testimony to be heard, whether any of the meetings, or any portion of a meeting, is to be closed, and if so, which ones, and the name and telephone number of the person to contact for further information.

This notice fulfills the requirements of § 251.11(b) for the proceeding to determine the Phase II distribution of the 1997 cable royalty funds for the syndicated programming category.

By Order dated January 12, 2000, the Library consolidated all Phase II controversies in Docket Nos. 96-7 CARP CD 93-94, 97-2 CARP CD 95, 98-2 CARP CD 96 and 99-5 CARP CD 97 into a single distribution proceeding and announced the precontroversy discovery schedule for a Phase II distribution proceeding in the syndicated programming category. All controversies in this category have reached settlement, except for a dispute between certain claimants represented by the Independent Producers Group (“IPG”), and certain claimants represented by the Motion Picture Association of America, Inc. (“Program Suppliers”), for distribution of the 1997 royalty funds collected under the cable statutory license of the Copyright Act. 17 U.S.C. 111.

On October 12, 2000, the Office published a notice initiating the 180-day arbitration period for this proceeding. 65 FR 60690 (October 12, 2000). On October 17, 2000, the parties to this proceeding met with the arbitrators for the purposes of discussing resolution of certain issues designated to the CARP by the Copyright Office during the discovery period of the proceeding and of setting a schedule for this proceeding. At that meeting, the parties and the arbitrators agreed to the following briefing and hearing schedule:

Document production (if ordered)—October 27, 2000

Filing of Opposition to IPG motion to remove designation of “highly confidential” and related relief—November 2, 2000

Filing of Follow-up discovery requests related to October 27 document production—November 3, 2000

Filing of Response to follow-up discovery requests—November 8, 2000

Filing of Reply to Opposition to IPG motion to remove designation of “highly confidential” and related relief—November 9, 2000

Filing of Motions to dismiss and/or to strike—November 20, 2000

Filing of Oppositions to Motions to dismiss and/or strike—December 1, 2000

Filing of Reply to Opposition to Motions to dismiss and/or strike—December 8, 2000

Oral arguments on all motions regarding document production, discovery, protective orders, and all motions to dismiss and/or strike—December 11-12, 2000

Opening Statements for both parties—January 8, 2001

Presentation of Direct Cases:—January 8-12, 2001

Witness for Program Suppliers: Marsha E. Kessler

Witness for Independent Producers Group: Raul Galaz

Filing of Written Rebuttal Testimony—January 26, 2001

Filing of Post-hearing discovery requests—January 31, 2001

Filing of Responses to post-hearing discovery requests—February 2, 2001

Completion of document production—February 5, 2001

Oral Arguments on all motions regarding post-hearing document production and discovery—February 6-7, 2001

Presentation of Rebuttal Cases—February 20-21, 2001

Filing of Proposed Findings of Fact and Conclusions of Law—March 2, 2001

Filing of Replies to Proposed Findings of Fact and Conclusions of Law—March 9, 2001

Closing Arguments—March 16, 2001

Close of 180-day period—April 16, 2001

All hearings will begin at 9:30 a.m. and end at 4:30 p.m.

At this time, the parties have not moved to close any portion of the proceeding to the public. Further refinements to the schedule will be announced in open meetings and issued as orders to the parties participating in the proceeding. All changes will be noted in the docket file of the proceeding, as required by the Copyright Office regulations governing the administration of CARP proceedings. 37 CFR 251.11(c)

Dated: October 27, 2000.
David O. Carson,
General Counsel.

[FR Doc. 00-28039 Filed 10-31-00; 8:45 am]

BILLING CODE 1410-33-P